ENVIRONMENTAL PROTECTION AGENCY

40 CFR Part 52

[R06-OAR-2005-TX-0019; FRL-7898-7]

Approval and Promulgation of Implementation Plans; Texas; Agreed Orders in the Beaumont/Port Arthur Ozone Nonattainment Area

AGENCY: Environmental Protection Agency (EPA).

ACTION: Direct final rule.

SUMMARY: The EPA is taking direct final action on revisions to the Texas State Implementation Plan (SIP). This rule making covers eight Agreed Orders with six companies in the Beaumont/Port Arthur (B/PA) nonattainment area. We are approving the eight Agreed Orders between the State of Texas and six companies in Southeast Texas as a strengthening of the Texas SIP. These Agreed Orders will contribute to the improvement in air quality in the B/PA nonattainment area and continue to contribute to the maintenance of the ozone standard in the southeastern portion of the State of Texas. The EPA is approving this SIP revision in accordance with the requirements of the Federal Clean Air Act (the Act), sections 110 and 116.

DATES: This rule is effective on June 13, 2005 without further notice, unless EPA receives relevant adverse comment by May 12, 2005. If EPA receives such comment, EPA will publish a timely withdrawal in the Federal Register informing the public that this rule will not take effect.

ADDRESSES: Submit your comments, identified by Regional Material in EDocket (RME) ID No. R06-OAR-2005-TX-0019, by one of the following methods:

• Federal eRulemaking Portal: http://www.regulations.gov Follow the on-line instructions for submitting comments.

• Agency Web site: http://docket.epa.gov/rmepub/ Regional Material in EDocket (RME), EPA's electronic public docket and comment system, is EPA's preferred method for receiving comments. Once in the system, select “quick search,” then key in the appropriate RME Docket identification number. Follow the on-line instructions for submitting comments.

• U.S. EPA Region 6 “Contact Us” web site: http://epa.gov/region6/r6coment.htm Please click on “6PD” (Multimedia) and select “Air” before submitting comments.

• E-mail: Mr Thomas Diggs at diggs.thomas@epa.gov. Please also cc the person listed in the FOR FURTHER INFORMATION CONTACT section below.

• Fax: Mr. Thomas Diggs, Chief, Air Planning Section (6PD-L), at fax number 214-665-7263.

• Mail: Mr. Thomas Diggs, Chief, Air Planning Section (6PD-L), Environmental Protection Agency, 1445 Ross Avenue, Suite 1200, Dallas, Texas 75202-2733.

• Hand or Courier Delivery: Mr. Thomas Diggs, Chief, Air Planning Section (6PD-L), Environmental Protection Agency, 1445 Ross Avenue, Suite 1200, Dallas, Texas 75202-2733.

Such deliveries are accepted only between the hours of 8 am and 4 pm weekdays except for legal holidays. Special arrangements should be made for deliveries of boxed information.

Instructions: Direct your comments to Regional Material in EDocket (RME) ID No. R06-OAR-2005-TX-0019. EPA's policy is that all comments received will be included in the public file without change and may be made available online at http://docket.epa.gov/rmepub/, including any personal information provided, unless the comment includes information claimed to be Confidential Business Information (CBI) or other information the disclosure of which is restricted by statute. Do not submit information through Regional Material in EDocket (RME), regulations.gov, or e-mail if you believe that it is CBI or otherwise protected from disclosure. The EPA RME Web site and the federal regulations.gov are “anonymous access” systems, which means EPA will not know your identity or contact information unless you provide it in the body of your comment. If you send an e-mail comment directly to EPA without going through RME or regulations.gov, your e-mail address will be automatically captured and included as part of the comment that is placed in the public file and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the Regional Material in EDocket (RME) index at http://docket.epa.gov/rmepub/. Although listed in the index, some information is not publicly available, i.e., CBI or other information whose disclosure is restricted by statute. Certain other material, such as copyrighted material, is not placed on the Internet and will be publicly available only in hard copy form. Publicly available docket materials are available either electronically in RME or in the official file which is available at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at (214) 665-7253 to make an appointment. If possible, please make the appointment at least two working days in advance of your visit. There will be a 15 cent per page fee for making photocopies of documents. On the day of the visit, please check in at the EPA Region 6 reception area at 1445 Ross Avenue, Suite 700, Dallas, Texas.

The State submittal is also available for public inspection at the following state air agency during official business hours by appointment: Texas Commission on Environmental Quality, Office of Air Quality, 12124 Park 35 Circle, Austin, Texas 78753.

FOR FURTHER INFORMATION CONTACT: Guy Donaldson, Air Planning Section (6PD-L), Environmental Protection Agency, Region 6, 1445 Ross Avenue, Suite 700, Dallas, Texas 75202-2733, telephone (214) 665-7242; fax number 214-665-7263; e-mail address donaldson.guy@epa.gov.

SUPPLEMENTARY INFORMATION: Throughout this document wherever “we,” “us,” or “our” is used, we mean the EPA. Please note that if we receive relevant adverse comment(s) on an amendment, paragraph, or section of this rule and if that provision is independent of the remainder of the rule, we may adopt as final those provisions of the rule that are not the subject of a relevant adverse comment.

Outline

I. What Action Is EPA Taking?

II. What Is a State Implementation Plan?

III. What Does Federal Approval of a SIP Mean to Me?

IV. What Areas in Texas Will This Action Affect?

V. What Does the Agreed Order Between the TCEQ and ExxonMobil Oil Corporation, Jefferson County, Require?

VI. What Do the Agreed Orders Between the TCEQ and Huntsman Petrochemical Corporation, Jefferson County, Require?

VII. What Does the Agreed Order Between the TCEQ and ISP Elastomers, Jefferson County, Require?

VIII. What Do the Agreed Orders Between the TCEQ and Mobil Chemical Company, Division of ExxonMobil Oil Corporation, Jefferson County, Require?

IX. What Does the Agreed Order Between the TCEQ and Motiva Enterprises LLC, Jefferson County, Require?

X. What Does the Agreed Order Between the TCEQ and Premcor Refining Group, Jefferson County, Require?

XI. Final Action

XII. Statutory and Executive Order Reviews

I. What Action Is EPA Taking?

On January 10, 2005 the Texas Commission on Environmental Quality (TCEQ) submitted a SIP revision which included the State adopted Agreed Orders with ExxonMobil Oil Corporation, Mobil Chemical Company (Division of ExxonMobil Oil Corporation), ISP Elastomers, Huntsman Petrochemical Corporation Port Neches Plant, Huntsman Petrochemical Corporation Port Arthur Plant, Premcor Refining Group, Inc., and Motiva Enterprises LLC in the Beaumont/Port Arthur nonattainment area. These Agreed Orders were developed as a result of the collaborative efforts between the TCEQ, local environmental organizations and a local industry forum. The Agreed Orders SIP submittal delineates permanent reductions of volatile organic compounds, oxides of nitrogen, hydrogen sulfide, benzene, carbon monoxide, ammonia, and particulate matter. They also include air monitoring activities and other operational activities. The Companies entered voluntarily into the Agreed Orders and we are adopting them into the Texas SIP under sections 110 and 116 of the Act to make the measures federally enforceable and because the State is relying upon the Orders as a strengthening of the existing Texas SIP and for continued maintenance of the standards in the northeast part of Texas.

In this rule making we are approving under sections 110 and 116 the eight Agreed Orders between the Texas Commission on Environmental Quality and ExxonMobil Oil Corporation, Mobil Chemical Company (Division of ExxonMobil Oil Corporation)(two Orders), ISP Elastomers, Huntsman Petrochemical Corporation Port Neches Plant, Huntsman Petrochemical Corporation Port Arthur Plant, Premcor Refining Group, Inc., and Motiva Enterprises LLC in the Beaumont/Port Arthur nonattainment area.

II. What Is a State Implementation Plan?

Section 110 of the Act requires states to develop air pollution regulations and control strategies to ensure that the state air quality meets the National Ambient Air Quality Standards (NAAQS) that EPA has established. Under section 109 of the Act, EPA established the NAAQS to protect public health. The NAAQS address six criteria pollutants. These pollutants are: carbon monoxide, nitrogen dioxide, ozone, lead, particulate matter, and sulfur dioxide.

Each state must submit these regulations and control strategies to us for approval and incorporation into the federally enforceable SIP. Each state has a SIP designed to protect air quality. These SIPs can be extensive, containing state regulations or other enforceable documents and supporting information such as emission inventories, monitoring networks, and modeling demonstrations.

III. What Does Federal Approval of a SIP Mean to Me?

A state may enforce state regulations before and after we incorporate those regulations into a federally approved SIP. After we incorporate those regulations into a federally approved SIP, both EPA and the public may also take enforcement action against violators of these regulations.

IV. What Areas in Texas Will This Action Affect?

The approval of the eight Agreed Orders will affect the Beaumont/Port Arthur (B/PA) Ozone Nonattainment area and the southeastern part of Texas. The B/PA area includes Hardin, Jefferson, and Orange Counties. The Agreed Orders will contribute to the improvement in the air quality in the B/PA area and will continue to contribute to the maintenance of the ozone standard in the southeastern portion of the State of Texas. Each company offered, individually or a combination of emission reductions, monitoring, and operational changes to be memorialized in Agreed Orders with the Texas Commission on Environmental Quality. Since we are approving the Orders into the Texas SIP, any emission reductions stipulated in these Agreed Orders are required by federal law and therefore are not surplus emissions reductions and cannot be used for the purposes of offsetting, netting, or banking. Some of the companies reserved a portion of the emissions reductions for future use; these are not stipulated to in the Agreed Orders. For further information about which companies reserved some of the emissions reductions and the types of pollutants and amounts being reserved for future use, see the Technical Support Document (TSD).

V. What Does the Agreed Order Between the TCEQ and ExxonMobil Oil Corporation, Jefferson County, Require?

ExxonMobil Oil Corporation, Jefferson County, owns and operates an oil refinery facility at 1795 Burt Street, Beaumont, Jefferson County, Texas. ExxonMobil Oil Corporation, Jefferson County, (TCEQ Account number JE-0067-I, Customer No. 601470214, Regulated Entity No. 102450756) entered into an Agreed Order (Docket No. 2004-0846-SIP) with the Texas Commission on Environmental Quality to provide reductions in the emissions of volatile organic compounds and sulfur dioxide, improve and update plant operations, and perform air monitoring. The Agreed Order has 18 stipulations and was adopted by the Commission on December 15, 2004. The Company installed, on April 4, 2004, a wet gas scrubber with oxygen enrichment on the fluid catalytic cracking unit, Emission Point Number (EPN) 06ST_003, for the reduction of sulfur dioxide. By December 31, 2005, the Company will implement improved practices and maintenance procedures for the two ketone units to reduce VOC fugitive emissions reported under EPN 41_FUG001, EPN 41_FUG002, EPN 42_FUG001, and EPN 42_FUG002. This will be for the purpose of reducing solvent loss and thereby volatile organic compound emissions. On July 31, 2004 the Company installed and configured Vivicom Software, and replaced PtR-4 NOX and CO emission analyzers. The installation of this software will improve data and system reliability of the continuous emissions monitoring system. By May 1, 2006, ExxonMobil will shut down six grandfathered boilers for the cogeneration unit and amend the corresponding Air Quality Permit #19566. The Company's boilers to be shut down are EPN 56SKT_015, EPN 56SKT_016, EPN 56SKT_017, EPN 56SKT_018, EPN 56SKT_019, and EPN 56SKT_032. The Company will also continue to operate two air quality monitors for the collection of data regarding sulfur dioxide in accordance with the Agreed Order entered into between the Company and the TCEQ, Docket No. 97-0827-AIR-E. These monitors will be operated until EPA has determined that the Beaumont/Port Arthur nonattainment area has attainted the 8-hour ozone standard and redesignated the area to attainment or until December 31, 2008, whichever is later. The Company reserved for future use, at a minimum, 300 TPY of the SO² emissions reductions achieved from the installation of the wet scrubber on the fluid catalytic cracking unit. The SO² emissions reductions achieved by the wet scrubber installed on the fluid catalytic cracking unit, that are above 300 TPY but not exceeding 9400 TPY, are required by the Order. All of the fugitive VOC emissions reductions achieved by the improved practices and maintenance procedures for the two ketone units are required by the Order. All of the VOC emissions reductions achieved by the shutdown of the six boilers are required by the Order. TCEQ must remove permanently from the Emissions Inventory the six boilers and all of their VOC emissions. We have included the supporting documentation for this Agreed Order with our TSD dated February 14, 2005.

VI. What Do the Agreed Orders Between the TCEQ and Huntsman Petrochemical Corporation, Jefferson County, Require?

Huntsman Petrochemical Corporation owns and operates a C4 and Oxides and Olefins plant at 2701 Spur 136, Port Neches, Jefferson County, Texas. Huntsman Petrochemical Corporation, Jefferson County, Port Neches Plant (TCEQ Account Number JE-0052-V, Customer No. 600632848, Regulated Entity No. 100219252) entered into an Agreed Order (Docket No. 2004-0882-SIP) with the Texas Commission on Environmental Quality. The Agreed Order has 14 stipulations and was adopted by the Commission on December 15, 2004. By December 31, 2004, the Company had installed and configured for use E!CEMS Software to improve the data and system reliability regarding electronic data gathered for compliance purposes. The system will improve tracking of emissions and allow for quicker response to potential problems. There are no quantifiable emission reductions from the implementation of this measure.

Huntsman Petrochemical Corporation also owns and operates an aromatics and olefins plant at 4241 Savannah Avenue, Port Arthur, Jefferson County, Texas. Huntsman Petrochemical Corporation, Jefferson County, Port Arthur Plant (TCEQ Account Number JE-0135-Q, Customer No. 600632848, Regulated Entity No. 1002192522), entered into an Agreed Order (Docket No. 2004-0845-SIP) with the Texas Commission on Environmental Quality. The Agreed Order has 15 stipulations and was adopted by the Commission on December 15, 2004. The Company was to submit, on or before September 30, 2004, amendments to Air Quality Permit # 16989 to specify and make enforceable, controls for the benzene tank emission control project listed in the Company's Emission Cap Compliance Plan dated May 15, 2002. Benzene emission reductions will occur as a result of the utilization of a thermal oxidizer system. By December 31, 2004, the Company will also install and configure for use E!CEMS Software to improve the data and system reliability regarding electronic data gathered for compliance purposes. All of the emissions reductions that will be achieved by the benzene tank emission control project are required by the Agreed Order. We have included the supporting documentation for these Agreed Orders with our TSD dated February 14, 2005.

VII. What Does the Agreed Order Between the TCEQ and ISP Elastomers, Jefferson County, Require?

ISP Elastomers owns and operates a emulsion styrene/butadiene rubber manufacturing plant at 115 Main Street, Port Neches, Jefferson County, Texas. ISP Elastomers, Jefferson County, (TCEQ Account number JE-0017-A, Customer No. 602296287, Regulated Entity No. 10224799) entered into an Agreed Order (Docket No. 2004-0842-SIP) with the Texas Commission on Environmental Quality. The Agreed Order has 14 stipulations and was adopted by the Commission on December 15, 2004. The Company was to shut down the North Plant portion of the plant, resulting in the elimination of fugitive ammonia emissions. All of the emissions reductions achieved by the shutdown of the North Plant are required by the Agreed Order. The TCEQ must permanently remove from the Emissions Inventory the North Plant and all of its associated emissions. We have included the supporting documentation for this Agreed Order with our TSD dated February 14, 2005.

VIII. What Do the Agreed Orders Between the TCEQ and Mobil Chemical Company, Division of ExxonMobil Oil Corporation, Jefferson County, Require?

Mobil Chemical Company, a Division of ExxonMobil Oil Corporation owns and operates a chemical plant at 2775 Gulf Estates Road, Beaumont, Jefferson County, Texas. Mobil Chemical Company, Division of ExxonMobil Oil Corporation, Jefferson County, (TCEQ Account number JE-0062S, Customer No. 601470214, Regulated Entity No. 102450756) entered into an Agreed Order (Docket No. 2004-0841-SIP) with the Texas Commission on Environmental Quality which will result in the reduction of the emissions of volatile organic compound emissions, oxides of nitrogen, hydrogen sulfide, and carbon monoxide. The Agreed Order has 16 stipulations and was adopted by the Commission on December 15, 2004. The Company will shut down an olefins and aromatics plant boiler, Emission Point No. EH34, by December 1, 2006. As part of the Aromatic Restructuring Project of the Mobil Chemical Company, the company will remove specific components from the Olefins and Aromatics UDEX Unit by December 31, 2005. The removal of the components represented in Air Quality Permit # 18838 will reduce fugitive emissions of volatile organic compounds from Emission Point Nos. EF3, EF4, EF9, EF10 and EF11. The Company reserved for future use 75 TPY of NOX emissions reductions achieved by the shutdown of the boiler. All of the fugitive VOC emissions reductions achieved by the removal of specific components from the Olefins and Aromatics UDEX Unit are required by the Order. The TCEQ must permanently remove from the Emissions Inventory the boiler and all but 75 TPY of its NOX emissions.

In a second Agreed Order, Mobil Chemical Company, Division of ExxonMobil Oil Corporation, Jefferson County, (TCEQ Account number JE-0064-O, Customer No. 601549660, Regulated Entity No. 101485738), entered into an Agreed Order (Docket No. 2004-1654-SIP) with the Texas Commission on Environmental Quality which will result in the reduction of the emissions of volatile organic compound emissions and hydrogen sulfide. The Agreed Order has 14 stipulations and was adopted by the Commission on December 15, 2004. On December 31, 2003, the Company shut down the Chemical Specialties Plant sulfurized isobutylene unit authorized by Air Quality Permit # 3186. All of the emissions reductions achieved by the shutdown of this unit are required by the Agreed Order. The TCEQ must permanently remove from the Emissions Inventory the unit and all of its associated emissions. We have included the supporting documentation for this Agreed Order with our TSD dated February 14, 2005.

IX. What Does the Agreed Order Between the TCEQ and Motiva Enterprises LLC, Jefferson County, Require?

Motiva Enterprises LLC owns and operates a refinery at 2100 Houston Avenue, Port Arthur, Jefferson County, Texas. Motiva Enterprises LLC, Jefferson County (TCEQ Account Number JE-0095D, Customer No. 600124051, Regulated Entity No. 1000209451) entered into an Agreed Order (Docket No. 2004-0843-SIP) with the Texas Commission on Environmental Quality to provide reductions in the emissions of volatile organic compounds, oxides of nitrogen, sulfur dioxide, particulate matter and carbon monoxide. The Agreed Order has 18 stipulations and was adopted by the Commission on December 15, 2004. On or before December 31, 2004, Motiva Enterprises LLC will shut down Boiler 26 (EPN SPS2-6) and Boiler 27 (EPN SPS2-7) authorized by Air Quality Permit No. 6056. Also by this date, the company will shut down Boiler 31 (EPN SPS3-1). The Company will uncouple Gas Turbine Generator 35 from Boiler 34 (EPN SPS3-4) and Boiler 35 (EPN SPS3-5) and reroute the exhaust gas to the Waste Heat Boiler (EPN WHB37SCR), which will have selective catalytic reduction maintained on the unit. In addition to the four flares required by the Consent Decree between the United States of America and the States of Delaware and Louisiana and Motiva Enterprises, Inc. to ensure compliance with New Source Performance Standards at refineries with hydrocarbon flares, which are not equipped with flare gas recovery, the company has agreed to meet these same requirements for its remaining three flares at the plant (EPN FCCU NO3FS, EPN HCUNO1 FS, and EPN VPSNO4FS). All of the emissions reductions that will be achieved by the shutdown of the three boilers and the uncoupling/rerouting project are required by the Agreed Order. The TCEQ must remove permanently from the Emissions Inventory the three boilers and all of their associated emissions. We have included the supporting documentation for this Agreed Order with our TSD dated February 14, 2005.

X. What Does the Agreed Order Between the TCEQ and Premcor Refining Group, Jefferson County, Require?

Premcor Refining Group owns and operates a petroleum refinery at 1801 S. Gulfway Drive, Port Arthur, Jefferson County, Texas. Premcor Refining Group, Jefferson County (TCEQ Account Number JE-0042B, Customer No. 601420748, Regulated Entity No. 102584026) entered into an Agreed Order (Docket No. 2004-0844-SIP) with the Texas Commission on Environmental Quality to provide reductions in the emissions of oxides of nitrogen, hydrogen sulfide, sulfur dioxide and carbon monoxide and improve and update plant operations and maintenance. The Agreed Order has 20 stipulations and was adopted by the Commission on December 15, 2004. By December 31, 2004, the Company will replace all existing fuel gas burners, with a combined rated duty of approximately 600 million British Thermal Units per hour, in five process heaters in catalytic reforming unit # 1344, with Low-NOX burners. The Company will also install a sulfur degassing system that is designed to remove hydrogen sulfide from sulfur prior to its loading into trucks from all of the in-ground tanks at Sulfur Recovery Units 543 and 544, which will be installed on or before December 31, 2004. The Premcor Refining Group will also install software to improve data management, reporting and compliance demonstration for 60 existing boilers and process heaters and the refinery process information system on or before June 30, 2004. On November 30, 2003 the company made modifications to the regenerative thermal oxidizer (RTO) for wastewater treatment unit # 8742 in order to reduce emission events relating to RTO shutdowns and by June 30, 2005, the company will upgrade the master electronic control system. Since the nature of these modifications are to prevent emission events associated with RTO shutdowns and not a reduction in allowable emissions, there are no quantifiable emission reductions from the implementation of these measures. By April 30, 2005, a wet gas scrubber utilizing caustic and water solution sprays to reduce sulfur and particulate emissions will be installed at the outlet of the regenerator on the Fluid Catalytic Cracking unit # 1241. The Company also is shutting down a boiler with CO emissions, will operate the existing catalytic cracking unit in full burn mode to control the CO emissions, and will install a flue gas cooler. All of the emissions reductions that will be achieved by the replacement of the existing fuel gas burners with low-NOX burners, the installation of the sulfur degassing system, the installation of the caustic and water solution sprays, the shutdown of the boiler, and the full burn mode operation are required by the Agreed Order. The TCEQ must remove permanently from the Emissions Inventory the fuel gas burners and all of their emissions and the boiler and all of its emissions. We have included the supporting documentation for this Agreed Order with our TSD dated February 14, 2005.

XI. Final Action

EPA is approving the above-described eight Agreed Orders into the Texas SIP and publishing this rule without prior proposal because we view this as a noncontroversial amendment and anticipate no adverse comments. However, in the proposed rules section of this Federal Register publication, we are publishing a separate document that will serve as the proposal to approve the SIP revision if relevant adverse comments are received. This rule will be effective on June 13, 2005 without further notice unless we receive relevant adverse comment by May 12, 2005. If we receive relevant adverse comments, we will publish a timely withdrawal in the Federal Register informing the public that the rule, or affected portion of the rule, will not take effect. We will address all public comments in a subsequent final rule based on the proposed rule. We will not institute a second comment period on this action. Any parties interested in commenting must do so at this time. Please note that if we receive relevant adverse comment on an amendment, paragraph, or section of this rule and if that provision may be severed from the remainder of the rule, we may adopt as final those provisions of the rule that are not the subject of an adverse comment.

XII. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the rights or obligations of non agency parties. 5 U.S.C. 804(3). EPA is not required to submit a rule report regarding today's action under section 801 because this is a rule of particular applicability establishing source-specific requirements for eight named sources. A major rule cannot take effect until 60 days after it is published in the Federal Register. This action is not a “major rule” as defined by 5 U.S.C. 804(2).

Under section 307(b)(1) of the Clean Air Act, petitions for judicial review of this action must be filed in the United States Court of Appeals for the appropriate circuit by June 13, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Lead, Nitrogen dioxide, Ozone, Particulate matter, Reporting and recordkeeping requirements, Sulfur oxides, Volatile organic compounds.

Dated: March 11, 2005.
Lawrence E. Starfield,
Acting Regional Administrator, Region 6.

40 CFR part 52 is amended as follows:

PART 52—[AMENDED]

1. The authority citation for part 52 continues to read as follows:

Authority: 42 U.S.C. 7401 et seq.

Subpart SS—Texas

2. The table in § 52.2270(d) entitled “EPA Approved Texas Source-Specific Requirements” is amended by adding to the end of the table eight new entries to read as follows:

§ 52.2270 Identification of plan.

* * * * *

(d) * * *

EPA.—Approved Texas Source-Specific Requirements
Name of source | Permit or order number | State effective date | EPA approval date | Comments
* * * * * * *
ExxonMobil Oil Corporation, Jefferson County, Texas | Agreed Order No. 2004-0846-SIP | 12/15/2004 | 4/12/2005 [Insert FR page number where document begins]
Huntsman Petrochemical Corporation, Port Neches Plant, Jefferson County, Texas | Agreed Order No. 2004-0882-SIP | 12/15/2004 | 4/12/2005 [Insert FR page number where document begins]
Huntsman Petrochemical Corporation, Port Arthur Plant, Jefferson County, Texas | Agreed Order No. 2004-0845-SIP | 12/15/2004 | 4/12/2005 [Insert FR page number where document begins]
ISP Elastomers, Jefferson County, Texas | Agreed Order No. 2004-0842-SIP | 12/15/2004 | 4/12/2005 [Insert FR page number where document begins]
Mobil Chemical Company, Division of ExxonMobil Oil Corporation, Jefferson County, Texas | Agreed Order No. 2004-0841-SIP | 12/15/2004 | 4/12/2005 [Insert FR page number where document begins]
Motiva Enterprises LLC, Jefferson County, Texas | Agreed Order No. 2004- 0843-SIP | 12/15/2004 | 4/12/2005 [Insert FR page number where document begins]
Premcor Refining Group, Inc., Jefferson County, Texas | Agreed Order No. 2004-0844-SIP | 12/15/2004 | 4/12/2005 [Insert FR page number where document begins]
Mobil Chemical Company, Division of ExxonMobil Oil Corporation, Jefferson County, Texas | Agreed Order No. 2004-1654-SIP | 12/15/2004 | 4/12/2005 [Insert FR page number where document begins]

* * * * *

[FR Doc. 05-7304 Filed 4-11-05; 8:45 am]

BILLING CODE 6560-50-P